DEPARTMENT OF HEALTH AND HUMAN SERVICES

Health Resources and Services Administration

National Organizations for State and Local Officials (NOSLO) Cooperative Agreement

AGENCY: Health Resources and Services Administration (HRSA), HHS.

ACTION: Notice of Non-competitive Supplemental Funding Award.

SUMMARY: HRSA will be providing supplemental funds to support activities for the Center for Health Policy/National Academy for State Health Policy (NASHP), to support the expanded program and costs for the Systems Integration Academy (SIA) that were not foreseen in the awardee's approved application. The supplemental funds will be used to augment the awardee's current activities to provide targeted technical assistance to a Learning Community of 16 states from awarded HRSA's Maternal and Child Health Bureau (MCHB) State Implementation Grants for Enhancing the System of Services for Children and Youth with Special Health Care Needs (CYSHCN) through Systems Integration (D70). The purpose of this supplement is to expand the Learning Community and provide technical assistance to the D70 grantees to achieve a shared resource, cross-system care coordination, and MCH 3.0 alignment.

SUPPLEMENTARY INFORMATION:

Intended recipient of the award: Center for Health Policy/National Academy for State Health Policy, Washington, DC.

Amount of the award: $281,810 for 2 years.

Authority: Section 311(a) of the Public Health Service (PHS) Act.

CFDA Number: 93.110.

Project period: The period of the supplemental support is from September 1, 2015, to August 31, 2017.

Justification for the Exception to Competition: Currently, the National Academy for State Health Policy (NASHP) is serving as the national technical assistance provider to the 12 D70 grantee states supported by MCHB through the Systems Integration Grant Program. In order to do this, NASHP must expand the scope of this objective to provide the targeted technical assistance to the D70 states through a “Systems Integration Academy” (SIA). Redefining the new scope and activities under the SIA requires significant staff effort and reprioritization of other major activities in NASHP's approved application. The SIA began in November 2014; representatives from the twelve D70 state grantees participated. Subsequently, three technical assistance webinars to support the state teams' work have been convened. A technical assistance needs assessment was developed and disseminated to the state teams, and the information received will be used to guide other technical assistance activities within the SIA learning community. NASHP coordinated and developed the State Implementation Grants to Enhance Systems Integration for CYSHCN: Systems Integration Academy In-Person Meeting. NASHP launched a shared platform for the SIA to support the SIA states' cross-state learning community. This platform supports the exchange of resources and provides an interactive forum for use by the current 12 states throughout the course of the project.

In fiscal year 2015, MCHB will expand the SIA Learning Community and provide technical assistance to four new D70 grantees, which will receive targeted technical assistance to achieve shared resource, cross-system care coordination and alignment with MCH 3.0.

FOR FURTHER INFORMATION CONTACT: Lynnette S. Araki, via email Laraki@hrsa.gov, or via telephone: (301) 443-6204.

Dated: September 24, 2015.
James Macrae,
Acting Administrator.

[FR Doc. 2015-24964 Filed 9-30-15; 8:45 am]

BILLING CODE 4165-15-P